FEDERAL COMMUNICATIONS COMMISSION

Notice of Public Information Collection(s) Being Submitted to OMB for Review and Approval

March 13, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 22, 2002. If you anticipate that you will be submitting comments, but find it difficult to do so within the period of time allowed by this notice, you should advise the contact listed below as soon as possible.

ADDRESSES: Direct all comments to Les Smith, Federal Communications Commission, Room 1-A804, 445 12th Street, SW, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0289.

Title: Section 76.1705, Performance Tests (channels delivered), Section 76.601, Performance Tests.

Form Number: N/A.

Type of Review: Revision of a currently approved collection.

Respondents: Business or other for-profit entities; Not-for-profit institutions; and State, local, or tribal government.

Number of Respondents: 10,400.

Estimated Time per Response: 0.5 to 70 hours.

Frequency of Response: Semi-annual and triennial reporting requirements; Third party disclosure.

Total Annual Burden: 277,200 hours.

Total Annual Costs: None.

Needs and Uses: 47 CFR Section 76.1705 requires cable television systems to maintain at its local office a current listing of cable television channels that the system delivers to its subscribers. 47 CFR Section 76.601 requires cable systems with over 1,000 subscribers to comply with all pertinent technical standards and to conduct semi-annual performance tests and triennial performance tests for color testing. The FCC or the local franchise authority may require additional tests to secure compliance with these technical standards. Furthermore, prior to requiring additional testing, the local franchising authority must notify the cable operator, who is then allowed 30 days to comply with any perceived signal quality problems that need correcting.

OMB Control Number: 3060-0638.

Title: Section 76.934(g), Alternative Rate Regulation Agreements.

Form Number: N/A.

Type of Review: Extension of a currently approved collection.

Respondents: Business or other for-profit entities.

Number of Respondents: 100.

Estimated Time per Response: 0.5 hours.

Frequency of Response: On occasion reporting requirements; Third party disclosure.

Total Annual Burden: 50 hours.

Total Annual Costs: None.

Needs and Uses: 47 CFR Sections 76.934(g) requires that local franchising authorities, certified pursuant to 47 CFR Section 76.910, and small systems operated by small cable companies may enter into an alternative rate regulation agreements affecting the basic service tier and the cable programming service tier. Small systems must file a copy of the operative alternative agreement with the FCC so that verification can be made that such agreements have been entered into and executed pursuant to the Commission's rules.

OMB Control Number: 3060-0644.

Title: Establishing Maximum Permitted Rates for Regulated Cable Services on Small Cable Systems, FCC Form 1230.

Form Numbers: FCC 1230.

Type of Review: Extension of a currently approved collection.

Respondents: State, local, or tribal government; Business or other for-profit entities; and Not-for-profit institutions. Number of Respondents: 5.

Estimated Time per Response: 2.0 to 2.25 hours.

Frequency of Response: Annual reporting requirements; Third party disclosure.

Total Annual Burden: 211 hours.

Total Annual Costs: None.

Needs and Uses: On May 5, 1995, the FCC adopted rules that allow a small cable system owned by a small cable company to use a simplified cost-of-service procedure to set its maximum permitted rate. Pursuant to these rules, a cable system is eligible to set its maximum permitted rate with the FCC Form 1230 if it is a system with 15,000 or fewer subscribers, and it is not owned by a cable company with more than 400,000 subscribers. The FCC and the local franchise authorities use these data to determine whether cable rates for basic service, cable programming service, and associated equipment are reasonable under FCC regulations.

Federal Communications Commission.
William F. Caton,
Acting Secretary.

[FR Doc. 02-6932 Filed 3-21-02; 8:45 am]

BILLING CODE 6712-01-P